DEPARTMENT OF HEALTH AND HUMAN SERVICES

Meeting of the Secretary's Advisory Committee on Regulatory Reform—Cancellation

AGENCY: Office of the Assistant Secretary for Planning and Evaluation, HHS.

ACTION: Notice of cancellation of meeting.

SUMMARY: This notice announces the cancellation of a public meeting of the Department of Health and Human Services (HHS) Secretary's Advisory Committee on Regulatory Reform that was scheduled to be held on Tuesday, October 1, from 9 a.m. to 5 p.m. and on Tuesday, June 11, from 8 a.m. to 3 p.m. This meeting will be rescheduled for a later date. Information about dates, times, and locations for the meeting will be posted in the Federal Register and on the Committee Web site at www.regreform.hhs.gov once the event has been rescheduled.

FOR FURTHER INFORMATION CONTACT: Margaret P. Sparr, Executive Coordinator, Secretary's Advisory Committee on Regulatory Reform, Office of the Assistant Secretary for Planning and Evaluation, 200 Independence Avenue, SW., Room 344G, Washington, DC, 20201, (202) 401-5182.

SUPPLEMENTARY INFORMATION: On June 8, 2001, HHS Secretary Thompson announced a Department-wide initiative to reduce regulatory burdens in health care, to improve patient care, and to respond to the concerns of health care providers and industry, State and local Governments, and individual Americans who are affected by HHS rules. Common sense approaches and careful balancing of needs can help improve patient care. As part of this initiative, the Department established the Secretary's Advisory Committee on Regulatory Reform to provide findings and recommendations regarding potential regulatory changes. These changes would enable HHS programs to reduce burdens and costs associated with departmental regulations and paperwork, while at the same time maintaining or enhancing the effectiveness, efficiency, impact, and access of HHS programs.

Dated: September 20, 2002.
William Raub,
Deputy Assistant Secretary for Planning and Evaluation.

[FR Doc. 02-24433 Filed 9-25-02; 8:45 am]

BILLING CODE 4151-05-P